SMALL BUSINESS ADMINISTRATION

[Declaration of Disaster #3498]

State of Tennessee; Amendment #4

In accordance with notices received from the Department of Homeland Security—Federal Emergency Management Agency, effective May 30, 2003, the above numbered declaration is hereby amended to establish the incident period for this disaster as beginning on May 4, 2003, and continuing through May 30, 2003. This declaration is also amended to include Anderson, Cumberland, Knox, Loudon and Roane Counties in the State of Tennessee as disaster areas due to damages caused by severe storms, tornadoes and flooding occurring on May 4, 2003 and continuing through May 30, 2003.

In addition, applications for economic injury loans from small businesses located in the contiguous counties of Campbell, Grainger, Jefferson, Sevier and Union in the State of Tennessee may be filed until the specified date at the previously designated location. All other counties contiguous to the above named primary counties have been previously declared.

All other information remains the same, i.e., the deadline for filing applications for physical damage is July 7, 2003, and for economic injury the deadline is February 6, 2004.

(Catalog of Federal Domestic Assistance Program Nos. 59002 and 59008)
Dated: June 2, 2003.
Herbert L. Mitchell,
Associate Administrator for Disaster Assistance.

[FR Doc. 03-14392 Filed 6-6-03; 8:45 am]

BILLING CODE 8025-01-P